DEPARTMENT OF HEALTH AND HUMAN SERVICES

Health Resources and Services Administration

National Advisory Council on Nurse Education and Practice; Notice of Meeting

In accordance with section 10(a)(2) of the Federal Advisory Committee Act (Pub. L. 92-463), notice is hereby given of the following meeting:

Name: National Advisory Council on Nurse Education and Practice (NACNEP).

Dates and Times: April 14, 2004, 8:30 a.m.-5 p.m.; April 15, 2004, 8:30 a.m-5 p.m.; April 16, 2004, 8:30 a.m.-2 p.m.

Place: The Wyndham Washington DC Hotel, 1400 M Street, NW., Washington, DC 20005.

Status: The meeting will be open to the public.

Agenda: Agency and Bureau administrative updates will be provided. The purpose of the meeting will be to address issues related to Geriatric Care with implications for the nursing workforce. An opening presentation will provide a comprehensive view of geriatric care to be followed by presentations on the nursing workforce. The National Center for Health Workforce Analysis, Bureau of Health Professions (BHPr), staff will present reports on the health care workforce and long term care models for the geriatric workforce. A presentation on long term care challenges and initiatives will be followed by a panel on geriatric perspectives across acute, home health and community and public health care settings. The National Center for Health Workforce Analysis, BHPr, staff will report on a study of nursing aides, home health aides and related health care occupations identifying local workforce shortages and associated data needs. Interdisciplinary issues for the geriatric workforce will be the last formal presentation. Council workgroups will then deliberate on the content of the meeting and develop recommendations on geriatric care with implications for the nursing workforce.

FOR FURTHER INFORMATION CONTACT: Anyone interested in obtaining a roster of members, minutes of the meeting, or other relevant information should write or contact Ms. Elaine G. Cohen, M.S., R.N., Executive Secretary, National Advisory Council on Nurse Education and Practice, Parklawn Building, Room 9-35, 5600 Fishers Lane, Rockville, Maryland 20857, telephone (301) 443-1405.

Dated: March 24, 2004.
Tina M. Cheatham,
Director, Division of Policy Review and Coordination.

[FR Doc. 04-7042 Filed 3-29-04; 8:45 am]

BILLING CODE 4165-15-P